DEPARTMENT OF HOMELAND SECURITY

Coast Guard

33 CFR Part 117

[Docket No. USCG-2016-0295]

Drawbridge Operation Regulation; Isle of Wight (Sinepatuxent) Bay, Ocean City, MD

AGENCY: Coast Guard, DHS.

ACTION: Notice of deviation from drawbridge regulation.

SUMMARY: The Coast Guard has issued a temporary deviation from the operating schedule that governs the US 50 (Harry W. Kelly Memorial) Bridge across the Isle of Wight (Sinepatuxent) Bay, mile 0.5, at Ocean City, MD. The deviation is necessary to accommodate participants of the 2016 “Island 2 Island” Half Marathon.

DATES: The deviation is effective from 8 a.m. to 10:30 a.m. on Saturday, April 30, 2016.

ADDRESSES: The docket for this deviation, [USCG-2016-0295] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The OC Tri-Running Sports, on behalf of the Maryland State Highway Administration, who owns the US 50 (Harry W. Kelly Memorial) Bridge has requested a temporary deviation from the current operating regulations set out in 33 CFR 117.559, to facilitate the 2016 “Island 2 Island” Half Marathon.

Under this temporary deviation, the bridge will be closed to navigation from 8 a.m. to 10:30 a.m. on April 30, 2016. The closure has been requested to ensure the safety of the increased volumes of runners and spectators that will be participating in the “Island 2 Island” Half Marathon on April 30, 2016.

The bridge is a Double Bascule bridge and has a vertical clearance in the closed position of 13 feet above mean high water. Vessels able to pass through the bridge in the closed position may do so at anytime. The bridge will not be able to open for emergencies and there is no immediate alternative route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 12, 2016.
Hal R. Pitts,
Bridge Program Manager, Fifth Coast Guard District.

[FR Doc. 2016-08896 Filed 4-15-16; 8:45 am]

BILLING CODE 9110-04-P